DEPARTMENT OF LABOR

Employment and Training Administration

[TA-W-41,931]

Vertical Aviation Technologies, Inc., Helicopter Research, Design, and Manufacturing, Sanford, Florida; Notice of Termination of Investigation

Pursuant to Section 221 of the Trade Act of 1974, an investigation was initiated on August 5, 2002 in response to a worker petition, which was filed by the company on behalf of workers at Vertical Aviation Technologies, Inc., Sanford, Florida.

The petitioner has requested that the petition be withdrawn. Consequently, further investigation in this case would serve no purpose, and the investigation has been terminated.

Signed in Washington, DC this 11th day of September, 2002.
Linda G. Poole,
Certifying Officer, Division of Trade Adjustment Assistance.

[FR Doc. 02-24509 Filed 9-26-02; 8:45 am]

BILLING CODE 4510-30-P